DEPARTMENT OF TRANSPORTATION

Pipeline and Hazardous Materials Safety Administration

[Docket No. PHMSA-2015-0188, Notice No. 15-19]

International Standards on the Transport of Dangerous Goods

AGENCY: Pipeline and Hazardous Materials Safety Administration (PHMSA).

ACTION: Notice of public meetings.

SUMMARY: This notice is to advise interested persons of two public meetings occurring on Thursday, November 12, 2015, both held at the Department of Transportation (DOT) headquarters. PHMSA will conduct a public meeting to discuss proposals in preparation for the 48th session of the United Nations Sub-Committee of Experts on the Transport of Dangerous Goods (UNSCOE TDG), to be held November 30 to December 09, 2015, in Geneva, Switzerland. During this meeting, PHMSA is also requesting comments relative to potential new work items that may be considered for inclusion in its international agenda.

Also on Thursday, November 12, 2015, the Occupational Safety and Health Administration (OSHA) will conduct a public meeting (Docket No. OSHA-H022k-2006-0062) to discuss proposals in preparation for the 30th session of the United Nations Sub-Committee of Experts on the Globally Harmonized System of Classification and Labelling of Chemicals (UNSCEGHS), to be held December 9 to December 11, 2015, in Geneva, Switzerland.

Time and Location: Both the PHMSA and OSHA public meetings will take place on Thursday, November 12, 2015 at the DOT Headquarters in the West Building, which is located at 1200 New Jersey Avenue SE., Washington, DC 20590-0001. The times are:

PHMSA pubic meeting: 9:00 a.m. to 12:00 noon EST.

OSHA public meeting: 1:00 p.m. to 4:00 p.m. EST.

Advanced Meeting Registration: The DOT requests that attendees pre-register for these meetings by completing the form at https://www.surveymonkey.com/r/LVXNWYT. Attendees may use the same form to pre-register for both the PHMSA and the OSHA meetings. Failure to pre-register may delay your access into the DOT Headquarters building. Additionally, if you are attending in-person, arrive early to allow time for security checks necessary to access the building.

Conference call-in and “live meeting” capability will be provided for both meetings. Specific information on call-in and live meeting access will be posted when available at http://www.phmsa.dot.gov/hazmat/regs/international under Upcoming Events and at http://www.osha.gov/dsg/hazcom/.

FOR FURTHER INFORMATION CONTACT: Mr. Steven Webb or Mr. Aaron Wiener, Office of Hazardous Materials Safety, Department of Transportation, Washington, DC 20590, 202-366-8553.

Supplementary Information on the PHMSA Meeting: The primary purpose of PHMSA's meeting will be to prepare for the 48th session of the UNSCOE TDG, which is the second of four meetings scheduled for the 2015-2016 biennium. The UNSCOE will consider proposals for the 20th Revised Edition of the United Nations Recommendations on the Transport of Dangerous Goods Model Regulations, which may be implemented into relevant domestic, regional, and international regulations from January 1, 2019. Copies of working documents, informal documents, and the meeting agenda may be obtained from the United Nations Transport Division's Web site at http://www.unece.org/trans/main/dgdb/dgsubc3/c3age.html. General topics on the agenda for the UNSCOE TDG meeting include:

• Explosives and related matters;

• Listing, classification, and packing;

• Electric storage systems;

• Transport of gases;

• Global harmonization of transport of dangerous goods regulations with the Model Regulations;

• Guiding principles for the Model Regulations;

• Electronic data interchange for documentation purposes;

• Cooperation with the International Atomic Energy Agency (IAEA);

• New proposals for amendments to the Model Regulations;

• Issues relating to the Globally Harmonized System of Classification and Labeling of Chemicals (GHS); and

• Miscellaneous pending issues.

Following the 48th session of the UNSCOE TDG, a copy of the Sub-Committee's report will be available at the United Nations Transport Division's Web site at http://www.unece.org/trans/main/dgdb/dgsubc3/c3rep.html. PHMSA's Web site at http://www.phmsa.dot.gov/hazmat/regs/international provides additional information regarding the UNSCOE TDG and related matters.

Supplementary Information on the OSHA Meeting: The Federal Register notice and additional detailed information relating to OSHA's public meeting will be available upon publication at http://www.regulations.gov (Docket No. OSHA-H022k-2006-0062) and on the OSHA Web site at http://www.osha.gov/dsg/hazcom/.

Signed at Washington, DC, on October 7, 2015.
Magdy El-Sibaie,
Associate Administrator for Hazardous Materials Safety.

[FR Doc. 2015-26019 Filed 10-13-15; 8:45 am]

BILLING CODE 4910-60-P